DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on June 8, 2012, and comments were due by August 7, 2012. No comments were received.

DATES: Comments should be submitted on or before October 4, 2012.

FOR FURTHER INFORMATION CONTACT: Dennis Brennan, Maritime Administration, 1200 New Jersey Avenue SE, Washington, DC 20590. Telephone: 202-366-1029; or email: dennis.brennan@dot.gov. Copies of this collection also can be obtained from that office.

SUPPLEMENTARY INFORMATION: Maritime Administration (MARAD).

Title: Monthly Report of Ocean Shipments Moving under Export-Import Bank Financing (Ocean Shipments Moving under Export-Import Bank Financing).

OMB Control Number: 2133-0013.

Type of Request: Revision of a currently approved collection.

Affected Public: Shippers subject to Export-Import Bank Financing.

Form Number(s): MA-518.

Abstract: In accordance with 46 U.S.C. 55304 (PR 17), certain shippers receiving Export-Import Bank financing must transport items that move by sea on U.S.-flag registered vessels unless they receive a Certification of Non-Availability from MARAD. MARAD will use the information collected to assist shippers with obtaining carriage on U.S.-flag registered vessels and to make determinations of vessel availability. MARAD will also use the information collected to monitor compliance with the U.S.-flag shipping requirements as required by 46 U.S.C. 55305(d)(2).

Annual Estimated Burden Hours: 196 hours.

Addresses: Send comments regarding these information collections to the Office of Information and Regulatory Affairs, Office of Management and Budget, 725 Seventeenth Street NW., Washington, DC, 20503, Attention: MARAD Desk Officer. Alternatively, comments may be sent via email to the Office of Information and Regulatory Affairs (OIRA), Office of Management and Budget, at the following address: oira.submissions@omb.eop.gov.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology. A comment to OMB is best assured of having its full effect if OMB receives it receives it within 30 days of publication.

Authority: 49 CFR 1.66.

Issued in Washington, DC on August 27, 2012.
Christine Gurland,
Acting Secretary, Maritime Administration.

[FR Doc. 2012-21721 Filed 8-31-12; 8:45 am]

BILLING CODE 4910-81-P